DEPARTMENT OF THE INTERIOR

National Park Service

[NPS-MWR-CUVA-19576; PPMWMWROW3/PPMPSPD1Y.YM0000]

Environmental Impact Statement for the Modification/Removal of the Canal Diversion Dam in Cuyahoga Valley National Park, Ohio

AGENCY: National Park Service, Interior.

ACTION: Notice of termination of environmental impact statement.

SUMMARY: The National Park Service (NPS) is terminating preparation of an environmental impact statement (EIS) for the modification/removal of the Canal Diversion Dam (Dam) in Cuyahoga Valley National Park, Ohio (CUVA). Instead, the NPS will be preparing an environmental assessment (EA) to assist the NPS in determining how best to bring the Cuyahoga River within the boundaries of CUVA into attainment with the Clean Water Act and to allow for its recreational use by the public.

ADDRESSES: Information will be available at Cuyahoga Valley National Park headquarters located at 15610 Vaughn Road, Brecksville, Ohio 44141; telephone (330) 657-2752. Information will also be available at the NPS Planning, Environment and Public Comment (PEPC) Web site at http://parkplanning.nps.gov/cuva.

FOR FURTHER INFORMATION CONTACT: Superintendent Craig Kenkel at the address above; or by telephone at the number above. Information will be available at the NPS Planning, Environment and Public Comment (PEPC) Web site at http://parkplanning.nps.gov/cuva.

SUPPLEMENTARY INFORMATION: The Dam is owned by the Ohio Department of Natural Resources and supplies water to a portion of the Ohio and Erie Canal National Historic Landmark. The Cuyahoga River upstream of the Dam does not meet aquatic community goals set forth in Ohio's Water Quality Standards. The Lower Cuyahoga River Total Maximum Daily Load (TMDL) report, as well as previous water quality surveys, has indicated that a cause of nonattainment of the standards is the Dam. The TMDL report recommends that the Dam be modified or removed to restore water quality in the Cuyahoga River upstream of the structure. Public and stakeholder scoping regarding modification or removal of the Dam was initiated by the Ohio Environmental Protection Agency in August 2002. It was unclear at that time whether the proposed modification or removal of the Dam would involve NPS lands or adversely affect NPS resources. The NPS determined in 2009 that the State of Ohio alternatives for the proposal to modify or remove the Canal Diversion Dam would impact NPS resources, require access to NPS lands, or require NPS funds. Accordingly, the NPS decided to prepare the EIS, and the Ohio Department of Natural Resources and the Ohio Environmental Protection Agency agreed to be cooperating agencies. A Notice of Intent to Prepare the EIS was published in the Federal Register on July 24, 2009.

Following extensive internal review and interagency consultation over the last six years, preliminary analysis of the alternatives indicates there is no potential for significant impacts to NPS resources and values and no concerns or issues were expressed during the public scoping process that would have the potential for highly controversial impacts. Therefore, NPS intends to terminate the EIS and prepare an environmental assessment to develop and analyze alternatives that satisfy the project purpose and need. The Ohio Department of Natural Resources and the Ohio Environmental Protection Agency will remain cooperating agencies on the EA. The EA to consider whether to remove or modify the dam is expected to be released for public review in the early spring of 2016. The public comment period for the EA and the dates, times, and locations of public meetings, if any, will be announced through the PEPC Web site, the park Web site, and in local media outlets.

Dated: December 1, 2015.
Cameron H. Sholly,
Regional Director, Midwest Region.

[FR Doc. 2015-32279 Filed 12-22-15; 8:45 am]

BILLING CODE 4310-MA-P